DEPARTMENT OF HEALTH AND HUMAN SERVICES

Substance Abuse and Mental Health Services Administration

Office for Women's Services; Notice of Meeting

Pursuant to Public Law 92-463, notice is hereby given of the meeting of the Advisory Committee for Women's Services of the Substance Abuse and Mental Health Services Administration (SAMHSA) on March 30, 2000.

The meeting of the Advisory Committee for Women's Services will include a discussion of policy and program issues relating to women's substance abuse and mental health service needs; the SAMHSA fiscal year 2000 budget; resolutions adopted at the Committee's November meeting; specific Committee goals for the current year, consideration of November meeting minutes; and other policy issues.

A summary of the meeting and/or a roster of committee members may be obtained from: Nancy P. Brady, Executive Secretary, Advisory Committee for Women's Services, Office for Women's Services, SAMHSA, Parklawn Building, Room 13-99, 5600 Fishers Lane, Rockville, Maryland 20857, Telephone: (301) 443-8964.

Substantive information may be obtained from the contact whose name and telephone number is listed below.

Committee Name: Advisory Committee for Women's Services.

Meeting Date(s): March 30, 2000.

Meeting Time: 10 a.m.-Noon.

Place: Room 12-94, Parklawn Building, 5600 Fishers Lane, Rockville, MD 20857.

Open: March 30, 2000.

Contact: Nancy P. Brady, Room 13-99, Parklawn Building, Telephone: (301) 443-8964.

This notice is being published less than 15 days prior to the meeting due to the urgent need to meet timing limitations imposed by the review and funding cycle.

Dated: March 15, 2000.
Coral Sweeney,
Review Specialist, SAMHSA.

[FR Doc. 00-7013 Filed 3-21-00; 8:45 am]

BILLING CODE 4162-20-P